DEPARTMENT OF COMMERCE

Submission for OMB Review; Comment Request

DOC has submitted to the Office of Management and Budget (OMB) for clearance the following proposal for collection of information under the provisions of the Paperwork Reduction Act of 1995, Pub. L. 104-13.

Bureau: International Trade Administration.

Title: Export Assistance Center Internet Website Form.

Agency Form Number: N/A.

OMB Number: 0625-0237.

Type of Request: Regular submission.

Burden: 667 hours.

Number of Respondents: 5,750.

Avg. Hours Per Response: 5-20 minutes.

Needs and Uses: The Newport Beach U.S. Export Assistant Center, which is a combined effort of the U.S. Department of Commerce, Export-Import Bank, and Small Business Administration provides a comprehensive array of export counseling and trade finance services to small and medium-sized U.S. exporting firms. It proposes the extension of the Office of Management and Budget's authorization for this information collection form to continue the usefulness of its interactive website. In addition, this generic form will be used in its entirety or with minor modifications by all U.S. Export Assistance Centers and the Office of Domestic Operations. The form will ask U.S. exporting firm respondents to provide general background information and identify which service(s) they are interested in.

Affected Public: Businesses or other for-profits.

Frequency: On Occasion.

Respondent's Obligation: Required to obtain or retain a benefit.

OMB Desk Officer: David Rostker, (202) 395-3897.

Copies of the above information collection proposal can be obtained by calling or writing Diana Hynek, Departmental Paperwork Clearance Officer, (202) 482-0266, Department of Commerce, Room 6625, 14th and Constitution, NW., Washington, DC 20230 or via internet at dHynek@doc.gov.

Written comments and recommendations for the proposed information collection should be sent to David Rostker, OMB Desk Officer, Room 10202, New Executive Office Building, Washington, DC 20503 within 30 days of the publication of this notice in the Federal Register.

Dated: October 17, 2002.
Madeleine Clayton,
Management Analyst, Office of the Chief Information Officer.

[FR Doc. 02-26891 Filed 10-22-02; 8:45 am]

BILLING CODE 3510-FP-P